DEPARTMENT OF COMMERCE

National Oceanic and Atmospheric Administration

[Docket No.: 100630282-0522-04]

RIN 0648-ZC18

Availability of Grants Funds for Fiscal Year 2011

AGENCY: National Oceanic and Atmospheric Administration (NOAA), Department of Commerce (DOC).

ACTION: Notice.

SUMMARY: NOAA publishes this notice to provide the correct funding opportunity number for the NOAA Regional Ocean Partnership Funding Program—FY2011 Funding Competition. The original solicitation, which was announced in the Federal Register on September 13, 2010, gave an incorrect funding opportunity number—NOAA-NOS-CSC-2011-2002718. This notice corrects that error by providing the correct funding opportunity number—NOAA-NOS-CSC-2011-2002721.

DATES: Full proposals must be received no later than 11:59 p.m. ET, December 10, 2010. For proposals submitted through Grants.gov, a date and time receipt indication by Grants.gov will be the basis of determining timeliness. Hard copy applications will be date and time stamped when they are received. Full proposals received after the submission deadline will not be reviewed or considered.

ADDRESSES: Full proposal application packages, including any letters of support, should be submitted through the apply function on Grants.gov. The standard NOAA funding application package is available at http://www.grants.gov. If an applicant does not have Internet access, one set of originals (signed) and two copies of the proposals and related forms should be mailed to the attention of James Lewis Free, NOAA Coastal Services Center, 2234 South Hobson Avenue, Charleston, South Carolina 29405-2413. No e-mail or fax copies will be accepted. Full proposal application packages, including any letters of support, should be submitted together in one package.

FOR FURTHER INFORMATION CONTACT: For administrative questions, contact James Lewis Free, NOAA CSC; 2234 South Hobson Avenue, Room B-119; Charleston, South Carolina 29405-2413, phone 843-740-1185, fax 843-740-1224, e-mail James.L.Free@noaa.gov. For technical questions regarding this announcement, contact Rebecca Smyth, phone 510-251-8324, e-mail Rebecca.Smyth@noaa.gov.

SUPPLEMENTARY INFORMATION: NOAA publishes this notice to correct the funding opportunity number referenced in the NOAA Regional Ocean Partnership Funding Program—FY2011 Funding Competition announced in the Federal Register on September 13, 2010 (75 FR 55541). The correct funding opportunity number is NOAA-NOS-CSC-2011-2002721. All other requirements published in the September 13, 2010 Federal Register notice for this program remain the same.

Limitation of Liability

In no event will NOAA or the Department of Commerce be responsible for proposal preparation costs if this program is cancelled because of other agency priorities. Publication of this announcement does not oblige NOAA to award any specific project or to obligate any available funds. Applicants are hereby given notice that funding for the Fiscal Year 2011 program is contingent upon the availability of Fiscal Year 2011 appropriations.

Universal Identifier

Applicants should be aware they are required to provide a Dun and Bradstreet Data Universal Numbering System (DUNS) number during the application process. See the October 30, 2002, Federal Register, (67 FR 66177) for additional information. Organizations can receive a DUNS number at no cost by calling the dedicated toll-free DUNS Number request line at 1-866-705-5711 or via the Internet at http://www.dunandbradstreet.com.

National Environmental Policy Act (NEPA)

NOAA must analyze the potential environmental impacts, as required by the National Environmental Policy Act (NEPA), for applicant projects or proposals which are seeking NOAA federal funding opportunities. Detailed information on NOAA compliance with NEPA can be found at the following NOAA NEPA Web site: http://www.nepa.noaa.gov/ including our NOAA Administrative Order 216-6 for NEPA http://www.nepa.noaa.gov/NAO216_6_TOC.pdf and the Council on Environmental Quality implementation regulations http://ceq.eh.doe.gov/nepa/regs/ceq/toc_ceq.htm. Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if NOAA determines an assessment is required. Applicants will also be required to cooperate with NOAA in identifying feasible measures to reduce or avoid any identified adverse environmental impacts of their proposal. The failure to do so shall be grounds for not selecting an application. In some cases if additional information is required after an application is selected, funds can be withheld by the Grants Officer under a special award condition requiring the recipient to submit additional environmental compliance information sufficient to enable NOAA to make an assessment on any impacts that a project may have on the environment.

The Department of Commerce Pre-award Notification Requirements for Grants and Cooperative Agreements contained in the Federal Register notice of October 1, 2001 (66 FR 49917), as amended by the Federal Register notice published on: October 30, 2002 (67 FR 66109); December 30, 2004 (69 FR 78389); and February 11, 2008 (73 FR 7696) are applicable to this solicitation.

Paperwork Reduction Act

This document contains collection-of-information requirements subject to the Paperwork Reduction Act (PRA). The use of Standard Forms 424, 424A, 424B, and SF-LLL have been approved by OMB under the respective control numbers 0348-0043, 0348-0044, 0348-0040, and 0348-0046. The application requirements specific to the NOAA Regional Ocean Partnership Funding Program have been approved by the Office of Management and Budget under Control Number 0648-0538. Public reporting burden for this collection of information is estimated to average 3 hours per response, including the time for reviewing instructions, searching existing data sources, gathering and maintaining the data needed, and completing and reviewing the collection of information. Send comments regarding this burden estimate or any other suggestions for reducing this burden to Ms. Cristi Reid, NOAA Office of Program Planning and Integration, SSMC 3, Room 15700, 1315 East West Highway, Silver Spring, MD 20910. The information collection does not request any proprietary or confidential information. No confidentiality is provided.

Notwithstanding any other provisions of the law, no person is required to respond to, nor shall any person be subjected to a penalty for failure to comply with, a collection of information subject to the requirements of the Paperwork Reduction Act, unless that collection of information displays a currently valid OMB Control Number.

Executive Order 12866

This notice has been determined to be not significant for purposes of Executive Order 12866.

Executive Order 13132 (Federalism)

It has been determined that this notice does not contain policies with Federalism implications as that term is defined in Executive Order 13132.

Administrative Procedure Act/Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: October 27, 2010.
Christopher C. Cartwright,
Associate Assistant Administrator for Management and CFO/CAO, Ocean Services and Coastal Zone Management.

[FR Doc. 2010-27700 Filed 11-2-10; 8:45 am]

BILLING CODE 3510-JE-P